ENVIRONMENTAL PROTECTION AGENCY

[EPA-HQ-OW-2002-0064; FRL-8244-2]

Agency Information Collection Activities; Submission to OMB for Review and Approval; Comment Request; National Pollutant Discharge Elimination System (NPDES) Modification and Variance Requests. EPA ICR Number: 0029.09. OMB Control Number: 2040-0068

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on November 30, 2006. Under OMB regulations, the Agency may continue to conduct or sponsor the collection of information while this submission is pending at OMB. This ICR describes the nature of the information collection and its estimated burden and cost.

DATES: Additional comments may be submitted on or before December 21, 2006.

ADDRESSES: Submit your comments, referencing docket ID number EPA-HQ-OW-2002-0064, to (1) EPA online using FDMS (our preferred method), by e-mail to ow-docket@epa.gov, or by mail to: EPA Docket Center, Environmental Protection Agency, Water Docket, Mail Code 4101T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Lynn Stabenfeldt, Environmental Protection Agency, 1200 Pennsylvania Ave., NW., Washington, DC 20460; telephone number: 202.564.0602; fax number: 202.501.2399; e-mail address: stabenfeldt.lynn@epa.gov.

SUPPLEMENTARY INFORMATION: EPA has submitted the following ICR to OMB for review and approval according to the procedures prescribed in 5 CFR 1320.12. On March 7, 2006 (71 FR 11407-11411), EPA sought comments on this ICR pursuant to 5 CFR 1320.8(d). EPA received no comments on the draft ICR.

EPA has established a public docket for this ICR under Docket ID No. EPA-HQ-OW-2002-0064, which is available for public viewing at the Water Docket in the EPA Docket Center (EPA/DC), EPA West, Room 3334, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through the Federal Docket Management System (FDMS) at http://www.regulations.gov. Use FDMS to submit or view public comments, access the index listing of the contents of the public docket, and to access those documents in the public docket that are available electronically. Once in the system key in the docket ID number identified above.

Any comments related to this ICR should be submitted to EPA and OMB within 30 days of this notice. EPA's policy is that public comments, whether submitted electronically or in paper, will be made available for public viewing in FDMS as EPA receives them and without change, unless the comment contains copyrighted material, CBI, or other information whose public disclosure is restricted by statute. When EPA identifies a comment containing copyrighted material, EPA will provide a reference to that material in the version of the comment that is placed in FDMS. The entire printed comment, including the copyrighted material, will be available in the public docket. Although identified as an item in the official docket, information claimed as CBI, or whose disclosure is otherwise restricted by statute, is not included in the official public docket, and will not be available for public viewing in FDMS.

Title: National Pollutant Discharge Elimination System (NPDES) Modification and Variance Requests.

ICR numbers: EPA ICR No. 0029.09, OMB Control No. 2040-0068.

ICR Status: This ICR is scheduled to expire on November 30th, 2006. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This ICR calculates the burden and costs associated with modifications and variances made to NPDES permits and to the National Sewage Sludge Management Program permit requirements. The regulations specified at 40 CFR 122.62 and 122.63 specify information a facility must report in order for the U.S. Environmental Protection Agency (EPA) to determine whether a permit modification is warranted. A NPDES permit applicant may request a variance from the conditions that would normally be imposed on the applicant's discharge. An applicant must submit information so the permitting authority can assess whether the facility is eligible for a variance, and what deviation from Clean Water Act (CWA) provisions is necessary. In general, EPA and authorized States use the information to determine whether: (1) The conditions or requirements that would warrant a modification or variance exist, and 2) the progress toward achieving the goals of the (CWA) will continue if the modification or variance is granted. Other uses for the information provided include: Updating records on permitted facilities, supporting enforcement actions, and overall program management, including policy and budget development and responding to Congressional inquiries.

Burden Statement: The annual public reporting and recordkeeping burden for this collection of information is estimated to average 11.9 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: NPDES permit applicants that request a variance or modification of the NPDES or sewage sludge management conditions.

Estimated Number of Respondents: 11,785.

Frequency of Response: On occasion.

Estimated Total Annual Hour Burden: 280,224 hours.

Estimated Total Annual Cost: $10,423,930, which includes $0 capital or O&M costs.

Changes in the Estimates: The estimated decrease in burden is 23,773 hours compared to the total estimated burden hours currently identified in the OMB Inventory of Approved ICR Burdens. This change is primarily the result of (1) Changes and adjustments in the number and types of permits administered by the states and EPA under the NPDES program. Non-NPDES authorized states continue to apply for NPDES program authorization. (2) EPA's continuous effort to improve the quality of data in its PCS database. This change may reflect more accurate data rather than a significant change in the number of permits actually administered. (3) EPA does not anticipate Variance Requests for Fundamentally Different Factors.

Dated: November 9, 2006.
Oscar Morales,
Director, Collection Strategies Division.

[FR Doc. E6-19637 Filed 11-20-06; 8:45 am]

BILLING CODE 6560-50-P